DEPARTMENT OF HEALTH AND HUMAN SERVICES

Centers for Disease Control and Prevention

[60Day-09-0128]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 or send comments to Maryam Daneshvar, CDC Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Congenital Syphilis (CS) Case Investigation and Report Form (CDC73.126), OMB No. 0920-0128—revision—National Center for HIV/AIDS, Viral Hepatitis, Sexually Transmitted Diseases, and Tuberculosis Prevention, (NCHHSTP), Centers for Disease Control and Prevention (CDC).

Background and Brief Description

Reducing congenital syphilis is a national objective in the DHHS Report entitled “Healthy People 2010 (Vol. I and II)”. Objective 25-9 of the DHHS document states the goal to “reduce congenital syphilis to 1 new case per 100,000 live births”. In order to meet this national objective, an effective surveillance system for congenital syphilis must be continued to monitor current levels of disease and progress towards the year 2010 objective. The purpose of the revision is to accommodate minor change to the “Congenital Syphilis (CS) Case Investigation and Report Form” (CDC73.126). In the proposed revision, the “reporting city” and “resident city” information blocks in the “Congenital Syphilis (CS) Case Investigation and Report” data collection form will be removed because several states have begun to use a 5-digit (rather than 4-digit) FIPS code for city, and CDC data systems cannot accommodate the new codes.

The congenital syphilis data will continue to be used to develop intervention strategies and to evaluate ongoing control efforts. There is no cost to respondents other than their time.

Estimate of Annualized Burden Table
Type of respondents | Name of form | No. of respondents | No. of responses per respondent | Average burden per response (in hours) | Total burden (in hours)
State and local health departments | Congenital Syphilis (CS) Case Investigation and Report | 18 | 11 | 20/60 | 66
Total |  | 18 |  |  | 66

Dated: April 23, 2009.
Maryam I. Daneshvar,
Acting Reports Clearance Officer, Centers for Disease Control and Prevention.

[FR Doc. E9-9772 Filed 4-28-09; 8:45 am]

BILLING CODE 4163-18-P